DEPARTMENT OF JUSTICE

Drug Enforcement Administration

21 CFR Part 1310

[Docket No. DEA-542]

Designation of 3,4-MDP-2-P Methyl Glycidate (PMK Glycidate), 3,4-MDP-2-P Methyl Glycidic Acid (PMK Glycidic Acid), and Alpha-Phenylacetoacetamide (APAA) as List I Chemicals; Correction

AGENCY: Drug Enforcement Administration, Department of Justice.

ACTION: Final rule; correction.

SUMMARY: On May 10, 2021, the Drug Enforcement Administration published a final rule designating three chemicals, known as PMK glycidate, PMK glycidic acid, and APAA, as list I chemicals under the Controlled Substances Act (CSA). In an amendatory instruction, information specifying the precise location for entries added to a table was inadvertently omitted, which makes enactment of the amendment unworkable. This document corrects that omission.

DATES: Effective June 9, 2021.

FOR FURTHER INFORMATION CONTACT: Terrence L. Boos, Drug and Chemical Evaluation Section, Diversion Control Division, Drug Enforcement Administration; Mailing Address: 8701 Morrissette Drive, Springfield, Virginia 22152; Telephone: (571) 362-3249.

SUPPLEMENTARY INFORMATION: In FR Doc. 2021-09697 appearing on page 24703 in the Federal Register of Monday, May 10, 2021, the following correction is made:

§ 1310.12 [Corrected]

1. On page 24708, in the third column, amendatory instruction number 5 is corrected to read as follows:

“5. In § 1310.12, in paragraph (c), add in alphanumerical order entries for “3,4-MDP-2-P methyl glycidate (PMK glycidate),” “3,4-MDP-2-P methyl glycidic acid (PMK glycidic acid),” and “alpha-phenylacetoacetamide (APAA)” under “List I Chemicals” in the table entitled “Table of Concentration Limits” to read as follows:”

D. Christopher Evans,
Acting Administrator.

[FR Doc. 2021-11836 Filed 6-4-21; 8:45 am]

BILLING CODE 4410-09-P